DEPARTMENT OF ENERGY

Federal Energy Regulatory Commission

[Docket No. MG01-10-002]

Trunkline LNG Company, LLC; Notice of Filing

August 14, 2003.

On July 24, 2003, Trunkline LNG Company, LLC (Trunkline LNG), filed notice of withdrawal of its Revised Standards of Conduct filed on October 26, 2000 in Docket No. MG01-10-000.

Specifically, Trunkline LNG states that it has no marketing affiliate, does not transport on behalf of a marketing affiliate, and is not subject to the marketing affiliate rules.

Any person desiring to intervene or to protest said filing should file with the Federal Energy Regulatory Commission, 888 First Street, NE., Washington, DC 20426, in accordance with Rules 211 and 214 of the Commission's Rules of Practice and Procedure (18 CFR 385.211 and 385.214). Protests will be considered by the Commission in determining the appropriate action to be taken but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www/ferc.gov, using the eLibrary (FERRIS) link. Enter the docket number excluding the last three digits in the docket number field to access the document. For assistance, contact FERC Online Support at FERCOnlineSupport@ferc.gov or toll-free at (866) 208-3676 or for TTY, contact (202) 502-8659. Protests and interventions may be filed electronically via the Internet in lieu of paper; see 18 CFR 385.2001(a)(1)(iii) and the instructions on the Commission's Web site under the “e-Filing” link. The Commission strongly encourages electronic filings.

Comment Date: September 4, 2003.

Magalie R. Salas,
Secretary.

[FR Doc. 03-21378 Filed 8-20-03; 8:45 am]

BILLING CODE 6717-01-P